DEPARTMENT OF JUSTICE

Notice of Lodging of Proposed Consent Decree Under the Clean Water Act

On January 8, 2019, the Department of Justice lodged a proposed Consent Decree with the United States District Court for the Eastern District of Louisiana in the lawsuit entitled United States of America v. Shell Offshore Inc., Civil Action No. 2:19-cv-122.

The Complaint in this Clean Water Act case was filed on behalf of the United States Coast Guard against Shell Offshore Inc. concurrently with the lodging of the proposed Consent Decree. The Complaint alleges that Shell is civilly liable for violation of Section 311 of the Clean Water Act (“CWA”), 33 U.S.C. 1321. The Complaint seeks civil penalties and injunctive relief for the discharge of harmful quantities of crude oil into the Gulf of Mexico. In the Complaint, the United States alleges that Shell is liable under the Clean Water Act for the crude oil spill that began on the night of May 11, 2016, at Shell's Green Canyon Block 248 offshore production facility located 97 miles offshore in the Gulf of Mexico. The Complaint alleges the spill began when a 6-inch-diamater transfer pipeline at the sea floor cracked due to stress on a joint in the line. Shell caused this added stress by placing sediment and debris from other operations on top of the pipe, which caused the pipe to settle into the sea bed. As a result of the pipeline crack, approximately 1,900 barrels (approximately 80,000 gallons) of crude oil flowed into the ocean.

Under the Consent Decree, Shell is required to pay $2.2 million in civil penalties. In addition, Shell commits to improve its leak-detection training program across its operations in the Gulf of Mexico. Since the spill, Shell has provided enhanced training to its control room operators and subsea supervisors. Shell will now develop and conduct refresher training that focuses on leak detection and includes simulator-based exercises that incorporate conditions experienced during the May 2016 spill.

The penalties and remedial measures required by the Consent Decree are in addition to the costs the company has already incurred to clean up the oil spill and compensate the public for injuries to natural resources. In a separate settlement filed in July 2018 and approved by the court in August, Shell agreed to pay a total of $3.871 million to the United States and Louisiana for natural resource restoration projects and to reimburse all of the state and federal trustees' remaining unpaid past assessment costs related to the spill.

The publication of this notice opens a period for public comment on the proposed Consent Decree. Comments should be addressed to the Assistant Attorney General, Environment and Natural Resources Division, and should refer to United States of America v. Shell Offshore Inc., D.J. Ref. No. 90-5-1-1-11920/1. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611. Please enclose a check or money order for $6.00 (25 cents per page reproduction cost) payable to the United States Treasury.

Thomas Carroll,
Assistant Section Chief, Environmental Enforcement Section, Environment and Natural Resources Division.

[FR Doc. 2019-00546 Filed 1-31-19; 8:45 am]

BILLING CODE 4410-15-P